DEPARTMENT OF ENERGY

Federal Energy Regulatory Commission

Combined Notice of Filings #2

Take notice that the Commission received the following electric rate filings:

Docket Numbers: ER18-1431-000.

Applicants: RE Astoria 2 LLC.

Description: § 205(d) Rate Filing: Certificate of Concurrence to Shared Facilities Agreement to be effective 4/21/2018.

Filed Date: 4/24/18.

Accession Number: 20180424-5176.

Comments Due: 5 p.m. ET 5/15/18.

Docket Numbers: ER18-1432-000.

Applicants: RE Gaskell West LLC.

Description: § 205(d) Rate Filing: Certificate of Concurrence to Shared Facilities Agreement to be effective 4/21/2018.

Filed Date: 4/24/18.

Accession Number: 20180424-5186.

Comments Due: 5 p.m. ET 5/15/18.

Docket Numbers: ER18-1433-000.

Applicants: RE Gaskell West 3 LLC.

Description: § 205(d) Rate Filing: Certificate of Concurrence to LGIA Co-Tenancy Agreement to be effective 4/21/2018.

Filed Date: 4/24/18.

Accession Number: 20180424-5213.

Comments Due: 5 p.m. ET 5/15/18.

Docket Numbers: ER18-1434-000.

Applicants: RE Gaskell West 4 LLC.

Description: § 205(d) Rate Filing: Certificate of Concurrence to LGIA Co-Tenancy Agreement to be effective 4/21/2018.

Filed Date: 4/24/18.

Accession Number: 20180424-5219.

Comments Due: 5 p.m. ET 5/15/18.

Docket Numbers: ER18-1435-000.

Applicants: RE Gaskell West 5 LLC.

Description: § 205(d) Rate Filing: Certificate of Concurrence to LGIA Co-Tenancy Agreement to be effective 4/21/2018.

Filed Date: 4/24/18.

Accession Number: 20180424-5221.

Comments Due: 5 p.m. ET 5/15/18.

Take notice that the Commission received the following electric securities filings:

Docket Numbers: ES18-29-000.

Applicants: Orange and Rockland Utilities, Inc.

Description: Update to April 16, 2018 Application of Orange and Rockland Utilities, Inc. for an Order Authorizing the Issue and Sale of Short-term Debt.

Filed Date: 4/24/18.

Accession Number: 20180424-5172.

Comments Due: 5 p.m. ET 5/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2018.
Kimberly D. Bose,
Secretary.

[FR Doc. 2018-09038 Filed 4-27-18; 8:45 am]

BILLING CODE 6717-01-P